DEPARTMENT OF LABOR

Employment and Training Administration

Notice of Determinations Regarding Eligibility To Apply for Worker Adjustment Assistance and NAFTA Transitional Adjustment Assistance

In accordance with Section 223 of the Trade Act of 2974, as amended, the Department of Labor herein presents summaries of determinations regarding eligibility to apply for trade adjustment assistance for workers (TA-W) issued during the period of March, 2002.

In order for an affirmative determination to be made and a certification of eligibility to apply for worker adjustment assistance to be issued, each of the group eligibility requirements of Section 222 of the Act must be met.

(1) That a significant number or proportion of the workers in the workers' firm, or an appropriate subdivision thereof, have become totally or partially separated,

(2) that sales or production, or both, of the firm or subdivision have decreased absolutely, and

(3) that increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-40,349; Willametee Industries, Inc. (Currently Know as Weyerhaueser), Saginaw Planer, Saginaw, OR

TA-W-40,370; Valley Precision Tool, Inc., Tower City, PA

TA-W-40,679; Eaton Corp., Powertrain and Specialty Controls Div., Sanford, NC

TA-W-40,515; IEC Electronics, Newark, NY

TA-W-39,947; Martin Marietta Magnesia Specialties, Inc., Manistee, MI

TA-W-40,887; Spicer Driveshaft Manufacturing, Inc., Div. Of The Dana Corp., Lima, OH

TA-W-40,369; Tempel Steel Corp., Formerly Known as PSW Industries, Michigan City, IN

In the following cases, the investigation revealed that the criteria for eligibility have not been met for the reasons specified.

Increased imports did not contribute importantly to worker separations at the firm.

TA-W-40,816; Connolly North America, LLC, El Paso, TX

TA-W-40,026; PCS Phosphate, A Div. Of Potash Corp., Aurora, NC

TA-W-40,945; Barry of Laredo, R.G. Barry Corp., Laredo, TX

TA-W-40,417; NTN-Bower Corp., Hamilton, AL

TA-W-40,962; Western Power Products, Hood River, OR

TA-W-40,543; Steelcase Wood Div., Fletcher, NC

TA-W-40,992; Saco Lowell, Inc., Easley, SC

TA-W-40,110; Delta Woodside Industries, Delta Mills Furman Plant, Fountain Inn, SC

TA-W-40,183; Optical Coating Laboratories, Inc., JDS Uniphase, Rochester, NY

TA-W-40,531; Price Pfister, Pacoima, CA

TA-W-41,001; Oxford Automotive, Oscoda Div., Oscoda, MI

The workers firm does not produce an article as required for certification under Section 222 of the Trade Act of 1974.

TA-W-41,083; Ellery Homestyles LLC, Pinefluff, NC

TA-W-40,715; Steward and Stevenson Power, Inc., Albuquerque, NM

TA-W-40,734; Modular Mining Systems, Tucson, AZ

TA-W-40,847; Brunswick Foreign Trade Zone, Inc., Brunswick, GA

The investigation revealed that criteria (2) has not been met. Sales or production did not decline during the relevant period as required for certification.

TA-W-41,055; Portex, Inc., Formerly Simsportex, A Subsidiary of Smiths Group PLC, Fort Myers, FL

TA-W-40,465; Hershey Foods Corp., Pennsburg Plant, Pennsburg, PA

TA-W-40.602; Chemwest Systems, Inc., Portland, OR

Affirmative Determinations for Worker Adjustment Assistance

The following certifications have been issued; the date following the company name and location of each determination references the impact date for all workers of such determination.

TA-W-39,996; PixTech, Inc., Boise, ID; August 29, 2000

TA-W-40,075; Pohlman Foundry Co., Inc., Buffalo, NY: September 6, 2000

TA-W-40,347; Phelps Dodge Miami, Inc., Claypool, AZ: November 2, 2000

TA-W-40,437; Thomas Henshall Silk Finishing Co., Inc., Paterson, NJ: October 18, 2000

TA-W-40,540; Beta Steel Corp., portage, IN: December 26, 2000

TA-W-40,650; Signal Transformer Col, Inwood, NY: November 7, 2000

TA-W-40,740; Corning, Inc., Greenville Plant, Greenville, OH: December 27, 2000

TA-W-40,935; Nice Ball Bearing Co., A Subsidiary of Roller Bearing Corp., Kulpsville, PA: January 22, 2001

TA-W-40,989, California Cedar Products Co., Stockton, CA: January 18, 2001

TA-W-41,046, STS Corp., Hialeah, FL: January 12, 2001

TA-W-41,072; Fourth, Inc., Altex, LLC, Charlotte, NC: January 29, 2001

TA-W-41,089; Weavexx, A Xerium Co., Greeneville, TN: February 10, 2001.

TA-W-41,100; Russell Yarn—Alex City Operations Alexander City, AL: February 2, 2001.

TA-W-41,059; Envy of California, Bakersfield, CA: January 10, 2001

TA-W-41,019; Sims Manufacturing Co., Inc., Rutland, MA: February 19, 2001

TA-W-40,986; FDB, Inc., Lincolnton, GA: January 30, 2001

TA-W-40,948; Boero, Inc., Oakland, CA: January 29, 2001

TA-W-40,942; The Bilrite Corp., Ripley, MS: November 19, 2001

TA-W-40,922; Emerson Electric Co., Alco Controls Div., Hazlehurst, GA: December 17, 2000

TA-W-40,857 & A, B, C; Fairbanks Morse Engine, Beloit, WI, Norfolk, VA, Seattle, WA and Houston, TX: December 13, 2000

TA-W-40,853; Hayes Lemmerz International, Inc., Wheels Business Unit, Somerset, KY: November 26, 2000

TA-W-40,688; Sanmina, Inc., A Subsidiary of Sanmina-SCI Co., Clinton, NC: January 28, 2001

TA-W-40,676 & A; Tyco Electronics, American Ave., Greensboro, NC and Piedmont Triad Parkway, Greensboro, NC: December 3, 2000

TA-W-40,591; Parker Hannifin Corp., Gear Pump Div., Sarasota, FL: October 17, 2000

TA-W-40,485; Dyersburg Corp., Charlotte, NC: March 30, 2000

TA-W-40,468; DT Magnetics International, Inc., Dover, NH: October 22, 2000q

TA-W-40,455; Phelps Dodge Bagdad, Inc., Bagdad, AZ: November 13, 2000

TA-W-40,402; Prime Tanning, St. Joseph, MO: October 24, 2000

TA-W-40,358; Conectl Corp. (Formerly Preco New Products), Boise, ID: October 29, 2000

TA-W-40,156; Jem Sportswear, San Fernando, CA: September 17, 2000

TA-W-39,928; C.L. Fashion Express, Inc., Panorama City, CA: August 16, 2000

TA-W-39,749; BHP Copper, Inc., Pinto Valley, Miami, AZ: July 11, 2000

TA-W-39,631; Merix Corp., Forest Grove, OR: January 20, 2001

TA-W-38,948; C.B. Cummings & Sons Co., Norway, ME: March 21, 2000

Also, pursuant to Title V of the North American Free Trade Agreement Implementation Act (P. L. 103-182) concerning transitional adjustment assistance hereinafter called (NAFTA-TAA) and in accordance with Section 250(a), Subchapter D, Chapter 2, Title II, of the Trade Act as amended, the Department of Labor presents summaries of determinations regarding eligibility to apply for NAFTA-TAA issued during the month of March, 2002.

In order for an affirmative determination to be made and a certification of eligibility to apply for NAFTA-TAA the following group eligibility requirements of Section 250 of the Trade Act must be met:

(1) That a significant number of proportion of the workers in the workers' firm, or an appropriate subdivision thereof, (including workers in any agricultural firm or appropriate subdivision thereof) have become totally or partially separated from employment and either—

(2) that sales or production, or both, of such firm or subdivision have decreased absolutely,

(3) that imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-05253; Matco Electronics, Matco East Distribution Center, Verona, VA

NAFTA-TAA-05554; Tempel Steel Co., Formerly Known as PSW Industries, Michigan City, IN

NAFTA-TAA-05575; Saturn Electronics and Engineering, Inc., Hudson, NH

NAFTA-TAA-05649; IEC Electronics, Newark, NY

NAFTA-TAA-05671; Beta Steel Corp., Portage, IN

NAFTA-TAA-05721; Steelcase Wood Div., Fletcher, NC

NAFTA-TAA-05813; CHF Industries, Inc., Loris, SC

NAFTA-TAA-05891; Fort Dearborn Co., Coldwater, MI

NAFTA-TAA-05361; Delta Woodside Industries, Inc., Delta Mills Furman Plant, Fountain Inn, SC

NAFTA-TAA-05520; Willamette Industries, Inc., (Currently Known as Weyerhaueser), Saginaw Planer, Saginaw, OR

NAFTA-TAA-05830; D and M Tool, Inc., Meadville, PA

NAFTA-TAA-05832; Pittsburgh Annealing Box Co., LLC, Pittsburgh, PA

NAFTA-TAA-05867; Tracy Minntronix Corp., Tracy, MN

NAFTA-TAA-05883; Midwest International, d/b/a Midwest Manufacturing Co., Stanberry, MO

NAFTA-TAA-05948; Textile Parts and Machine Co., Gastonia, NC

The workers firm does not produce an article as required for certification under Section 250(a), Subchapter D, Chapter 2, Title II, of the Trade Act of 1974, as amended.

NAFTA-TAA-05894; Puget Sound Energy, Inc., Bellevue, WA

NAFTA-TAA-05811; Thomson Multimedia, Inc., Indianapolis, IN

NAFTA-TAA-05779; Brunswick Foreign Trade Zone, Inc., Brunswick, GA

The investigation revealed that criteria (2) has not been met. Sales or production did not decline during the relevant period as required for certification.

NAFTA-TAA-05862; SMT Automotive Group, Schrader Machine and Tool, Hanover, MI

Affirmative Determinations NAFTA-TAA

NAFTA-TAA-05675; STS Apparel Corp., Hialeah, FL: December 8, 2000

NAFTA-TAA-05808; Fourth, Inc., Altex, LLC, Charlotte, NC: January 31, 2001

NAFTA-TAA-05876; Lamb Technicon, A Div. of Unova, Warren, MI: February 19, 2001

NAFTA-TAA-5929; Oxford Automotive, Oscoda Div., Oscoda, MI: December 21, 2000

NAFTA-TAA-05365; C.L. Fashion Express, Inc., Panorama City, CA: August 16, 2000

NAFTA-TAA-05704; Odetics, Inc., GYYR CCTV Div., Anaheim, CA: November 26, 2000

NAFTA-TAA-05959; Hoffman Enclosures, Inc., A Pentair Co., Anoka, MN: January 15, 2001

NAFTA-TAA-05817; Parker Hannifin Corp., Gear Pump Div., Sarasota, FL: October 17, 2000

NAFTA-TAA-05924; Takata Restraint Systems, Inc., Cheraw, SC: January 24, 2001

NAFTA-TAA-05939; Tractech, Inc., Delco Remy, Warren, MI: March 2, 2001

NAFTA-TAA-05321; Satilla Manufacturing Co.,Inc., Blackshear, GA: September 14, 2000

I hereby certify that the aforementioned determinations were issued during the month of March, 2002. Copies of these determinations are available for inspection in room C-5311, U.S. Department of Labor, 200 Constitution Avenue, NW., Washington, DC 20210 during normal business hours or will be mailed to persons who write to the above address.

Dated: March 29, 2002.
Edward A. Tomchick,
Director, Division of Trade Adjustment Assistance.

[FR Doc. 02-8267 Filed 4-4-02; 8:45 am]

BILLING CODE 4510-30-M